CHEMICAL SAFETY AND HAZARD INVESTIGATION BOARD

Sunshine Act Meeting

TIME AND DATE: November 14, 2013, 10:30 a.m.-1:30 p.m. CST.

PLACE: Radisson Hotel & Conference Center, Banquet Room 5, 200 S. Bell School Road, Rockford, IL 61108.

STATUS: Open to the public.

MATTERS TO BE CONSIDERED: The Chemical Safety and Hazard Investigation Board (CSB) will convene a public meeting on November 14, 2013, starting at 10:30 a.m., CST at the Radisson Hotel and Conference Center, Banquet Room 5, 200 S. Bell School Road, Rockford, IL 61108. At the public meeting, the Board will consider and vote on the draft case study of the December 7, 2009, accident at NDK Crystal, Inc., in Belvidere, Illinois, and possibly other items at the discretion of the Chair.

The CSB's case study examines the violent rupture of a 50-foot pressure vessel used to produce synthetic crystals. The vessel, located in an enclosed building, generated several projectiles during the explosion that resulted in one fatality and one injury to members of the public, and significant property damage to NDK Crystal and to an adjacent business.

At the meeting, CSB staff will present to the Board the results of the investigation into this incident. Key issues identified in the investigation include pressure vessel design and material selection requirements, learning from previous incidents, and routine and thorough inspections of equipment. Following the staff presentation on proposed findings and safety recommendations, the Board will hear brief comments from the public.

Following the conclusion of the public comment period, the Board will consider whether to approve the final case study and recommendations. All staff presentations are preliminary and are intended solely to allow the Board to consider in a public forum the issues and factors involved in this case. No factual analyses, conclusions, or findings presented by staff should be considered final.

Only after the Board has considered the staff presentations, listened to public comments, and adopted a final investigation report and recommendations will there be an approved final record of the CSB investigation of this incident.

Additional Information

The meeting is free and open to the public. If you require a translator or interpreter, please notify the individual listed below as the “Contact Person for Further Information,” at least five business days prior to the meeting.

The CSB is an independent federal agency charged with investigating accidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Comment

Members of the public are invited to make brief statements to the Board at the conclusion of the staff presentation. The time provided for public statements will depend upon the number of people who wish to speak. Speakers should assume that their presentations will be limited to five minutes or less, and may submit written statements for the record.

Contact Person for Further Information

Hillary J. Cohen, Communications Manager, hillary.cohen@csb.gov or (202) 446-8094. General information about the CSB can be found on the agency Web site at: www.csb.gov.

Dated: October 29, 2013.
Rafael Moure-Eraso,
Chairperson.

[FR Doc. 2013-26286 Filed 10-30-13; 11:15 am]

BILLING CODE 6350-01-P